ENVIRONMENTAL PROTECTION AGENCY

40 CFR Part 70

[EPA-R09-OAR-2022-0916; FRL-10530-01-R9]

Clean Air Act Operating Permit Program; California; South Coast Air Quality Management District

AGENCY: Environmental Protection Agency (EPA).

ACTION: Proposed rule.

SUMMARY: The Environmental Protection Agency (EPA) is proposing approval of revisions to the Clean Air Act (CAA or “Act”) Operating Permit Program (title V) of the South Coast Air Quality Management District (SCAQMD or “District”) in California. Once approved by the EPA, these program revisions will modify the major source title V potential to emit (PTE) thresholds to conform with the recent reclassification of state lands within the Coachella Valley nonattainment area from “Severe-15” to “Extreme” nonattainment for the 1997 8-hour ozone national ambient air quality standards (NAAQS). In the “Rules and Regulations” section of this issue of the Federal Register, we are simultaneously publishing an approval of the District's title V program revisions without a prior proposed rule. If the EPA receives no adverse comment, it will not take further action on this proposed rule.

DATES: Comments must be received on or before August 19, 2024.

ADDRESSES: Submit your comments, identified by Docket ID No. EPA-R09-OAR-2022-0916 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Catherine Valladolid, Air Permits Section (Air-3-1), U.S. Environmental Protection Agency, Region IX, (415) 947-4103, valladolid.catherine@epa.gov.

SUPPLEMENTARY INFORMATION: Throughout this document, “we,” “us,” and “our” refer to the EPA. This proposal addresses the following local rule: SCAQMD Rule 3001, “Title V Permits—Applicability.” In the Rules and Regulations section of this Federal Register, the EPA is approving the District's submissions and making administrative updates as a direct final rule without prior proposal because we view this as a noncontroversial action and anticipate no adverse comments. A detailed rationale for the action is set forth in the preamble to the direct final rule. If the EPA receives no adverse comments, the EPA contemplates no further action. If the EPA receives adverse comments, the EPA will withdraw the direct final rule and will address all public comments in a subsequent final rule based on this proposed rule. We do not plan to open a second comment period on this action, so anyone interested in commenting should do so at this time. Please note that if the EPA receives an adverse comment on an amendment, paragraph, or section of this proposed rule and if that provision may be severed from the remainder of the proposed rule, the EPA may adopt as final those provisions of the proposed rule that are not the subject of an adverse comment. For additional information, see the direct final rule of the same title that is located in the “Rules and Regulations” section of this Federal Register.

Table of Contents

I. Background

II. What are the requirements for approval of revisions to title V programs?

III. What is the State's proposed title V program revision?

I. Background

The CAA Amendments of 1990 include title V, which requires States to develop an operating permits program that meets the federal criteria codified in title 40 of the Code of Federal Regulations (CFR) part 70. The title V program requires certain sources of air pollution to obtain federal operating permits from their respective states. These federal operating permits improve enforcement and compliance by consolidating all applicable federal requirements into one federally enforceable document. Before a state can issue permits under 40 CFR part 70 (which are referred to as “title V permits”), the EPA must approve its programs under appendix A of 40 CFR part 70. States may submit revisions to their approved programs for EPA approval.

Title V of the CAA applies to “major stationary sources” as defined in title I, part D of the Act. 40 CFR 70.2 bases the definition of “major stationary source” on the nonattainment classification of the area where the source is located. Table 1 of this document shows the attainment/nonattainment/unclassifiable status for the applicable NAAQS within the District's jurisdictional boundary. As shown in Table 1, the SCAQMD's jurisdiction is classified as nonattainment for fine particulate matter with an aerodynamic diameter of less than or equal to 10 micrometers (PM10), fine particulate matter with an aerodynamic diameter of less than or equal to 2.5 micrometers (PM2.5), lead (Pb), and ozone.¹ The SCAQMD's jurisdiction is composed of several air basins that have different nonattainment classifications. The District is designated attainment/unclassifiable for nitrogen dioxide (NO2), carbon monoxide (CO), and sulfur dioxide (SO2). 40 CFR 81.305.

¹ As discussed in the Summary of this proposed rulemaking, the EPA reclassified state lands within the Coachella Valley area from Severe-15 to an Extreme ozone nonattainment area for the 1997 8-hour ozone NAAQS, effective July 10, 2019. This reclassification to Extreme means that a major stationary source is now defined as a source emitting 10 tons or more per year of either oxides of nitrogen or volatile organic compounds. 84 FR 32841 (July 10, 2019).

Table 1—Air Quality Attainment Status
NAAQS pollutant/standard | Designation ᵃ | Classification | Basin/air quality management area
Annual NO2 (1971 Standard) | A/U |  | Los-Angeles-South Coast Air Basin.
1-Hour NO2 (2010 Standard) | A/U |  | Los Angeles County (part).
1-Hour NO2 (2010 Standard) | A/U |  | Orange County.
1-Hour NO2 (2010 Standard) | A/U |  | Riverside County (part).
1-Hour NO2 (2010 Standard) | A/U |  | San Bernadino County (part).
CO (1971 Standard) | A/U |  | Los-Angeles-South Coast Air Basin Area.
Pb (2008 Standard) | NA |  | Los Angeles County-South Coast Air Basin.
1-Hour SO2 (2010 Standard) | A/U |  | South Coast Air Basin.
24-Hour PM10 (1987 Standard) | NA | Serious | Coachella Valley Planning Area.
24-Hour PM10 (1987 Standard) | A/U |  | South Coast Air Basin.
Annual PM2.5 (1997 Standard) | NA | Moderate | Los-Angeles-South Coast Air Basin.
24-Hour PM2.5 (1997 Standard) | NA | Moderate | Los-Angeles-South Coast Air Basin.
24-Hour PM2.5 (2006 Standard) | NA | Serious | Los-Angeles-South Coast Air Basin.
Annual PM2.5 (2012 Standard) | NA | Serious | Los-Angeles-South Coast Air Basin.
1-Hour Ozone (1979 Standard) ᵇ | NA | Extreme | Los-Angeles-South Coast Air Basin Area.
1-Hour Ozone (1979 Standard) ᵇ | NA | Severe-17 | Southeast Desert Modified Air Quality Management Area.
8-Hour Ozone (1997 Standard) ᶜ | NA | Extreme | Riverside County (Coachella Valley).
8-Hour Ozone (1997 Standard) ᶜ | NA | Extreme | Los-Angeles-South Coast Air Basin.
8-Hour Ozone (2008 Standard) | NA | Extreme | Los-Angeles-South Coast Air Basin.
8-Hour Ozone (2008 Standard) | NA | Severe-15 | Riverside County (Coachella Valley).
8-Hour Ozone (2015 Standard) | NA | Extreme | Los-Angeles-South Coast Air Basin.
8-Hour Ozone (2015 Standard) | NA | Severe-15 | Riverside County (Coachella Valley).
ᵃ NA = Nonattainment; A/U = Attainment or Unclassified.
ᵇ On August 3, 2005, the EPA revoked the 1979 1-hour ozone NAAQS; however, the EPA is retaining the listing of the designated areas for the revoked 1979 ozone NAAQS in 40 CFR part 81, for the sole purpose of identifying the anti-backsliding requirements that may apply to the areas at the time of revocation. 70 FR 44470 (August 3, 2005).
ᶜ On March 6, 2015, the EPA revoked the 1997 8-hour ozone NAAQS; however, the EPA is retaining the listing of the designated areas for the revoked 1997 ozone NAAQS in 40 CFR part 81, for the sole purpose of identifying the anti-backsliding requirements that may apply to the areas at the time of revocation. 80 FR 12264 (March 6, 2015). On July 10, 2019, the Coachella Valley was reclassified to Extreme ozone nonattainment for the 1997 ozone NAAQS. 84 FR 32841 (July 10, 2019).

The emissions thresholds, above which a title V operating permit is required pursuant to 40 CFR 70.3(a), are shown in table 2.

Table 2—Title V Emissions Thresholds ᵃ
Nonattainment designation/classification | VOC or NOX (tpy) | CO (tpy) | PM10 (tpy)
Marginal | 100 | 100 | 100
Moderate | 100 | 100 | 100
Serious | 50 | 50 | 70
Ozone transport region (other than Severe or Extreme) | 50 (VOC only) |  |
Severe | 25 |  |
Extreme | 10 |  |
ᵃ 40 CFR 70.2.

The emissions thresholds for PM2.5, SO2, and Pb are 100 tons per year (tpy) regardless of attainment classification. For hazardous air pollutants (HAPs), the title V threshold is 10 tpy for any individual HAP and 25 tpy for any combination of HAPs.

II. What are the requirements for approval of revisions to title V programs?

Pursuant to 40 CFR 70.4(i), either the EPA or the state may initiate a title V program revision “when the relevant Federal or State statutes or regulations are modified or supplemented.” It is the responsibility of the state to keep the EPA apprised of any proposed modifications to its basic statutory or regulatory authority or procedures. Revision of a state program shall be accomplished as follows:

(a) The state submits a modified program description, attorney general's statement (if necessary for expanded or additional authority), or other documents as the EPA determines to be necessary. 40 CFR 70.4(i)(2)(i).

(b) After the EPA receives a proposed program revision, it will publish a notice of the proposed change in the Federal Register and provide for a public comment period of at least 30 days. 40 CFR 70.4(i)(2)(ii).

(c) The Administrator shall approve or disapprove program revisions based on the requirements of 40 CFR part 70 and the Act. 40 CFR 70.4(i)(2)(iii).

(d) The EPA must publish a notice of approval in the Federal Register for any substantial program revisions. 40 CFR 70.4(i)(2)(iv).

(e) Approval of nonsubstantial revisions may be given by a letter from the Administrator to the Governor or a designee. 40 CFR 70.4(i)(2)(iv).

(f) A program revision shall become effective upon the approval of the Administrator. 40 CFR 70.4(i)(2)(iv).

III. What is the State's proposed title V program revision?

Table 3 lists the rules submitted as part of the SCAQMD's title V program revisions and the dates they were adopted by the District and submitted to the EPA by the California Air Resources Board (CARB), which is the Governor's designee for California rule submittals.²

² A detailed explanation of the EPA's evaluation of these proposed revisions as well as a change copy of the revised rule can be found in the Technical Support Document (TSD) and docket.

Table 3—Submitted Rules
Rule No. | Rule title | Adoption date | Submitted date ᵃ
3001 | Title V Permits—Applicability | 12/4/2020 | 2/25/2021
ᵃ CARB transmitted the submittal to the EPA by a letter dated February 24, 2021.

The SCAQMD revised the title V emissions thresholds in its Rule 3001 for volatile organic compounds and oxides of nitrogen from 25 tpy to 10 tpy for the Riverside County portion of the Salton Sea Air Basin ³ to align with a recent reclassification for that area from Severe-15 to Extreme for the 1997 8-hour ozone NAAQS.

³ The area often referred to as the “Coachella Valley” consists of the Riverside County portion of the Salton Sea Air Basin.

The District made two additional revisions to Rule 3001: (1) clarifying the geographic areas for the Phase One and Phase Two facilities; and (2) including an applicability cutoff date of December 4, 2020, for Phase One title V facilities.

List of Subjects in 40 CFR Part 70

Environmental protection, Administrative practice and procedure, Air pollution control, Intergovernmental relations, Reporting and recordkeeping requirements.

Dated: July 2, 2024.
Martha Guzman Aceves,
Regional Administrator, Region IX.

[FR Doc. 2024-15046 Filed 7-18-24; 8:45 am]

BILLING CODE 6560-50-P